DEPARTMENT OF THE TREASURY

Internal Revenue Service

26 CFR Part 1

[REG-146895-05]

RIN 1545-BF05

Election To Expense Certain Refineries; Hearing Cancellation

AGENCY: Internal Revenue Service (IRS), Treasury.

ACTION: Cancellation of notice of public hearing on proposed rulemaking by cross-reference to temporary regulations.

SUMMARY: This document cancels a public hearing on proposed rulemaking by cross-reference to temporary regulations under section 179C of the Internal Revenue Code relating to the election to expense qualified refinery property.

DATES: The public hearing, originally scheduled for November 20, 2008 at 10 a.m. is cancelled.

FOR FURTHER INFORMATION CONTACT: Funmi Taylor of the Publications and Regulations Branch, Legal Processing Division, Associate Chief Counsel (Procedure and Administration) at (202) 622-3628 (not a toll-free number).

SUPPLEMENTARY INFORMATION: A notice of proposed rulemaking by cross-reference to temporary regulations and a notice of public hearing that appeared in the Federal Register on Wednesday, July 9, 2008 (73 FR 39270) announced that a public hearing was scheduled for November 20, 2008, at 10 a.m. in the IRS Auditorium, Internal Revenue Building, 1111 Constitution Avenue, NW., Washington, DC. The subject of the public hearing is under the section 179C of the Internal Revenue Code.

The public comment period for these regulations expired on September 8, 2008. The notice of proposed rulemaking by cross-reference to temporary regulations and notice of public hearing instructed those interested in testifying at the public hearing to submit an outline of the topics to be addressed by October 14, 2008. As of Monday, October 27, 2008, no one has requested to speak. Therefore, the public hearing scheduled for November 20, 2008, is cancelled.

Guy Traynor,
Federal Register Liaison, Publications and Regulations Branch, Legal Processing Division, Associate Chief Counsel (Procedure and Administration).

[FR Doc. E8-26426 Filed 11-5-08; 8:45 am]

BILLING CODE 4830-01-P